DEPARTMENT OF TRANSPORTATION

Surface Transportation Board

[Docket No. FD 35955]

Indiana Boxcar Corporation—Continuance in Control Exemption—Camp Chase Railway Company, LLC

Indiana Boxcar Corporation (IBCX), a noncarrier, has filed a verified notice of exemption pursuant to 49 CFR 1180.2(d)(2) to continue in control of Camp Chase Railway Company, LLC (CCRY), upon CCRY's becoming a Class III rail carrier.

This transaction is related to a concurrently filed verified notice of exemption in Camp Chase Railway Company, LLC—Acquisition and Operation Exemption—Camp Chase Railroad Company, Docket No. FD 35954, wherein CCRY seeks Board approval to acquire from Camp Chase Railroad Company (CCRA), and to operate, approximately 14 miles of rail line known as the Camp Chase Industrial Track, extending between milepost 141.4 in Columbus, Ohio, and milepost 155.4 in Lilly Chapel, Ohio. Once consummation has occurred, CCRY will replace CCRA as the owner and operator of the Camp Chase Industrial Track.

The transaction may be consummated on or after September 27, 2015, the effective date of the exemption (30 days after the notice of exemption was filed).

IBCX currently owns three Class III rail carriers operating in four states: Vermilion Valley Railroad Company, Inc., operating in Illinois; Chesapeake & Indiana Railroad Company, Inc., operating in Indiana; and Youngstown & Southeastern Railway Company, Inc., operating in Ohio and Pennsylvania.

IBCX certifies that: (1) The Camp Chase Industrial Track does not connect with any carrier which IBCX owns; (2) the transaction is not part of a series of anticipated transactions that would connect these railroads with each other; and (3) the transaction does not involve a Class I rail carrier. Therefore, the transaction is exempt from the prior approval requirements of 49 U.S.C. 11323. See 49 CFR 1180.2(d)(2).

Under 49 U.S.C. 10502(g), the Board may not use its exemption authority to relieve a rail carrier of its statutory obligation to protect the interests of its employees. Section 11326(c), however, does not provide for labor protection for transactions under § 11324 and § 11325 that involve only Class III rail carriers. Accordingly, the Board may not impose labor protective conditions here because all of the carriers involved are Class III carriers.

If the verified notice contains false or misleading information, the exemption is void ab initio. Petitions to revoke the exemption under 49 U.S.C. 10502(d) may be filed at any time. The filing of a petition to revoke will not automatically stay the effectiveness of the exemption. Stay petitions must be filed no later than September 18, 2015 (at least seven days before the exemption becomes effective).

An original and 10 copies of all pleadings, referring to Docket No. FD 35955, must be filed with the Surface Transportation Board, 395 E Street SW., Washington, DC 20423-0001. In addition, one copy of each pleading must be served on John D. Heffner, Strasburger & Price, LLP, 1025 Connecticut Ave. NW., Suite 717, Washington, DC 20036.

Board decisions and notices are available on our Web site at “WWW.STB.DOT.GOV.”

Decided: September 8, 2015.
By the Board, Rachel D. Campbell, Director, Office of Proceedings.
Tia Delano,
Clearance Clerk.

[FR Doc. 2015-22906 Filed 9-10-15; 8:45 am]

BILLING CODE 4915-01-P